DEPARTMENT OF JUSTICE

Antitrust Division

Notice Pursuant to the National Cooperative Research and Production Act of 1993—Polyurea Development Association

Notice is hereby given that, on May 9, 2005, pursuant to Section 6(a) of the National Cooperative Research and Production Act of 1993, 15 U.S.C. 4301 et seq. (“the Act”), Polyurea Development Association (“PDA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Polyurea Development Association, Kansas City, MO. The nature and scope of PDA's standards development activities are: developing and promoting voluntary consensus standards for Polyurea Elastomeric Coating/Lining Systems and Polyurea Elastomeric Joint Sealant/Filler Systems.

Dorothy B. Fountain,
Deputy Director of Operations, Antitrust Division.

[FR Doc. 05-11598 Filed 6-10-05; 8:45 am]

BILLING CODE 4410-11-M